NATIONAL SCIENCE FOUNDATION

Special Emphasis Panel in Undergraduate Education; Notice of Meeting

In accordance with the Federal Advisory Committee Act (Pub. L. 92-463, as amended), the National Science Foundation announces the following meeting:

Name: Special Emphasis Panel in Undergraduate Education (1214).

Date/Time: April 10, 2001; 8:00 AM to 5:00 PM.

Place: Rooms 360 and 365 National Science Foundation, 4201 Wilson Boulevard, Arlington, VA.

Type of Meeting: Closed.

Contact Person: Dr. Joan Prival, National Science Foundation, 4201 Wilson Boulevard, Arlington, VA 22230. Telephone: 703-292-4635.

Purpose of Meeting: To provide advice and recommendations concerning the continuation of proposals submitted to NSF for financial support.

Agenda: To review and evaluate the progress of CETP projects under consideration for continued funding.

Reason for Closing: The proposals being reviewed include information of a proprietary or confidential nature, including technical information; financial data, such as salaries; and personal information concerning individuals associated with the proposals. These matters are exempt under 5 U.S.C. 552b(c), (4) and (6) of the Government in the Sunshine Act.

Dated: March 6, 2001.
Susanne Bolton,
Committee Management Officer.

[FR Doc. 01-5882 Filed 3-8-01; 8:45 am]

BILLING CODE 7555-01-M